DEPARTMENT OF COMMERCE

International Trade Administration

[A-570-890]

Wooden Bedroom Furniture From the People's Republic of China: Final Results of Antidumping Duty Administrative Review; 2011

AGENCY: Import Administration, International Trade Administration, Department of Commerce.

SUMMARY: On February 6, 2013, the Department of Commerce (the “Department”) published the preliminary results of the administrative review (“AR”) of wooden bedroom furniture from the People's Republic of China (“PRC”) covering the period of review (“POR”) January 1, 2011 through December 31, 2011.¹ We gave interested parties an opportunity to comment on the Preliminary Results. After reviewing interested parties' comments and the information received, we made no changes for the final results of this review. In these final results of review we determined that six companies, including the two mandatory respondents,² failed to establish eligibility for separate-rate status and, thus, we treated these companies as part of the PRC-wide entity; six companies made no shipments of subject merchandise during the POR and will retain their separate-rate status, two companies are U.S. importers and, therefore, we rescinded the review of these companies, and three companies have demonstrated eligibility for separate-rate status and have been assigned antidumping duty margins. The final antidumping duty margins for this review are listed below in the “Final Results of Review” section of this notice.

¹ See Wooden Bedroom Furniture From the People's Republic of China: Preliminary Results of Antidumping Duty Administrative Review; 2011, 78 FR 8493 (February 6, 2013) (“Preliminary Results”).

² The two mandatory respondents are Shanghai Maoji Import and Export Corp. Ltd. (“Maoji”), and Dongguan Huansheng Furniture Co., Ltd. (“Huansheng”).

DATES: Effective Date: June 12, 2013.

FOR FURTHER INFORMATION CONTACT: Patrick O'Connor, AD/CVD Operations, Office 4, Import Administration, International Trade Administration, U.S. Department of Commerce, 14th Street and Constitution Avenue NW., Washington, DC 20230; telephone: (202) 482-0989.

SUPPLEMENTARY INFORMATION:

Background

On February 6, 2013, the Department published its Preliminary Results of the AR of the antidumping order on wooden bedroom furniture from the PRC covering the period January 1, 2011, through December 31, 2011.

Analysis of the Comments Received

All issues raised in the case briefs are addressed in the memorandum from Christian Marsh, Deputy Assistant Secretary for Antidumping and Countervailing Duty Operations, to Paul Piquado, Assistant Secretary for Import Administration, “Issues and Decision Memorandum for the Final Results of the Administrative Review of the Antidumping Duty Order on Wooden Bedroom Furniture from the People's Republic of China” (“I&D Memorandum”), which is dated concurrently with this notice and which is hereby adopted by this notice. A list of the issues addressed in the I&D Memorandum is appended to this notice. The I&D Memorandum is a public document and is on file electronically via Import Administration's Antidumping and Countervailing Duty Centralized Electronic Services System (“IA ACCESS). Access to IA ACCESS is available to registered users at http://iaaccess.trade.gov and in the Central Records Unit of the main Commerce Building, Room 7046. In addition, a complete version of the I&D Memorandum is accessible on the Department's Web site at http://www.trade.gov/ia/. The signed I&D Memorandum and electronic version of the I&D Memorandum are identical in content.

Changes Since the Preliminary Results

We made no changes from the Preliminary Results.

Scope of the Order

The product covered by the order is wooden bedroom furniture, subject to certain exceptions. Imports of subject merchandise are currently classified under the Harmonized Tariff Schedule of the United States (“HTSUS”) subheadings: 9403.50.9042, 9403.50.9045, 9403.50.9080, 9403.50.9041, 9403.60.8081, 9403.20.0018, 9403.90.8041, 7009.92.1000 or 7009.92.5000. Although the HTSUS subheadings are provided for convenience and customs purposes, the written product description in the Order remains dispositive.³

³ For a complete description of the scope of the order, see I&D Memorandum.

Final Partial Rescission

In the Preliminary Results, the Department stated that it intends to rescind the AR with respect to Foliot Furniture Pacific Inc. (“Foliot Pacific”) and Foliot Furniture Corporation (“Foliot Corporation”) because these companies were identified as U.S. importers and the Department does not conduct ARs of U.S. importers. No parties commented on our intent to rescind the AR with respect to these two companies. Because there is no information or argument on the record of the current AR that warrants reconsidering our intent to partially rescind this AR, we are rescinding this AR with respect to Foliot Pacific and Foliot Corporation.

Final Determination of No Shipments

As noted in the Preliminary Results, we determined that the following companies did not have any reviewable transactions during the POR: (1) Clearwise Company Limited (“Clearwise”); (2) Dongguan Yujia Furniture Co., Ltd. (“Yujia”); (3) Golden Well International (HK) Ltd. (“Golden Well”); (4) Hangzhou Cadman Trading Co., Ltd. (“Cadman”); (5) Yeh Brothers World Trade, Inc. (“Yeh Brothers”); and (6) Zhejiang Tianyi Scientific and Educational Equipment Co., Ltd. (“Zhejiang Tianyi”).⁴ No parties commented on this issue, and we have not received any information that contradicts these companies' claims of no-shipments. We continue to find that these companies did not have shipments of subject merchandise during the POR. We will issue instructions to U.S. Customs and Border Protection (“CBP”) for any suspended entries under these companies' antidumping duty case numbers as noted below.

⁴ See Preliminary Results, 78 FR at 8494.

Final Results of Review

The Department has determined that the following dumping margins exist for the period January 1, 2011, through December 31, 2011:

Exporter | Weighted-average margin (percent)
Baigou Crafts Factory of Fengkai | 41.75
Foliot Furniture Inc./Meubles Foliot Inc | 41.75
Hualing Furniture (China) Co., Ltd.; Tony House Manufacture (China) Co., Ltd.; Buysell Investments Ltd.; and Tony House Industries Co., Ltd | 41.75
PRC-wide Entity ⁵ | 216.01

Assessment

The Department has determined, and CBP shall assess, antidumping duties on all appropriate entries covered by this AR. The Department intends to issue assessment instructions to CBP 15 days after the publication date of these final results of review. Pursuant to a recently announced refinement to the Department's assessment practice in NME cases, where we determined that an exporter under review had no shipments of the subject merchandise, any suspended entries under the exporter's antidumping case number (i.e., entries suspended at the exporter's rate) will be liquidated at the PRC-wide rate. For a full discussion of this practice, see Non-Market Economy Antidumping Proceedings: Assessment of Antidumping Duties, 76 FR 65694 (October 24, 2011).

⁵ The PRC-wide entity includes, among other companies: Shanghai Maoji Import and Export Corp. Ltd. Dongguan Huansheng Furniture Co., Ltd. Alexandre International Corp.; Southern Art Development Ltd.; Alexandre Furniture (Shenzhen) Co., Ltd.; Southern Art Furniture Factory; Billy Wood Industrial (Dong Guan) Co., Ltd.; Great Union Industrial (Dongguan) Co., Ltd.; Time Faith Ltd.; Dongying Huanghekou Furniture Industry Co., Ltd.; Sheng Jing Wood Products (Beijing) Co., Ltd.; and Telstar Enterprises Ltd.

Cash Deposit Requirements

The following cash deposit requirements will be effective upon publication of these final results of this AR for all shipments of the subject merchandise entered, or withdrawn from warehouse, for consumption on or after the publication date, as provided for by section 751(a)(2)(C) of the Act: (1) For the companies listed in the “Final Results of Review” section above, the cash deposit rate will be the rate listed above for the company; (2) for Clearwise, Yujia, Golden Well, Cadman, Yeh Brothers, and Zhejiang Tianyi, which had no shipments, the cash deposit rate will remain unchanged from the rate assigned to these companies in the most recently completed review of the companies; (3) for previously investigated or reviewed PRC and non-PRC exporters who are not under review in this segment of the proceeding but who have separate rates, the cash deposit rate will continue to be the exporter-specific rate published for the most recent period; (4) for all PRC exporters of subject merchandise which have not been found to be entitled to a separate rate, including Maoji, Huansheng, Alexandre Furniture (Shenzhen) Co., Ltd.; Southern Art Furniture Factory; Billy Wood Industrial (Dong Guan) Co., Ltd.; Great Union Industrial (Dongguan) Co., Ltd.; Time Faith Ltd.; Dongying Huanghekou Furniture Industry Co., Ltd.; Sheng Jing Wood Products (Beijing) Co., Ltd.; and Telstar Enterprises Ltd., the cash deposit rate will be the PRC-wide rate of 216.01 percent; and (5) for all non-PRC exporters of subject merchandise which have not received their own rate, the cash deposit rate will be the rate applicable to the PRC exporter(s) that supplied that non-PRC exporter. These deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Administrative Protective Order

This notice also serves as a reminder to parties subject to administrative protective order (“APO”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

This notice of the final results of the administrative review is issued and published in accordance with sections 751(a)(1) and 777(i) of the Act and 19 CFR 351.213(d)(4).

Dated: June 5, 2013.
Paul Piquado,
Assistant Secretary for Import Administration.

Appendix

Comment 1: Whether Maoji has Demonstrated Eligibility for Separate-Rate Status

Comment 2: The Appropriate Dumping Margin to Apply to Maoji as Part of the PRC-Wide Entity

Comment 3: Whether the Department Should Determine that Maoji's Suppliers are the Price Discriminators

Comment 4: Potential Evasion of Antidumping Duties on Huansheng's Subject Merchandise

[FR Doc. 2013-13987 Filed 6-11-13; 8:45 am]

BILLING CODE 3510-DS-P